DEPARTMENT OF ENERGY

Notice of Orders Issued Under Section 3 of The Natural Gas Act During July 2020

| FE Docket Nos.
JORDAN COVE ENERGY PROJECT L.P | 12-32-LNG
TWIN EAGLE RESOURCE MANAGEMENT, LLC | 20-67-NG
CONCORD ENERGY LLC | 20-66-NG
BP ENERGY COMPANY | 20-69-NG
LIBERTY UTILITIES (ST. LAWRENCE GAS) CORP | 20-70-NG; 19-19-NG; 18-68-NG
PORT ARTHUR LNG PHASE II, LLC | 20-23-LNG
CONSOLIDATED EDISON ENERGY, INC | 20-72-NG
INFINITE ENERGY, INC | 20-68-NG
ENGIE ENERGY MARKETING NA, INC | 20-74-NG
GUNVOR USA LLC | 20-77-NG
CLEAN ENERGY | 20-75-LNG

AGENCY: Office of Fossil Energy, Department of Energy.

ACTION: Notice of orders.

SUMMARY: The Office of Fossil Energy (FE) of the Department of Energy gives notice that during July 2020, it issued orders granting authority to import and export natural gas, to import and export liquefied natural gas (LNG), and vacating prior authorization. These orders are summarized in the attached appendix and may be found on the FE website at https://www.energy.gov/fe/listing-doefe-authorizationsorders-issued-2020.

They are also available for inspection and copying in the U.S. Department of Energy (FE-34), Division of Natural Gas Regulation, Office of Regulation, Analysis, and Engagement, Office of Fossil Energy, Docket Room 3E-033, Forrestal Building, 1000 Independence Avenue SW, Washington, DC 20585, (202) 586-9387. The Docket Room is open between the hours of 8:00 a.m. and 4:30 p.m., Monday through Friday, except Federal holidays.

Signed in Washington, DC, on August 19, 2020.
Amy Sweeney,
Director, Office of Regulation, Analysis, and Engagement, Office of Oil and Natural Gas.

Appendix

DOE/FE Orders Granting Import/Export Authorizations
3413-A | 07/06/20 | 12-32-LNG | Jordan Cove Energy Project LP | Final Opinion and Order 3413-A granting long-term authority to export LNG to Non-Free Trade Agreement Nations.
4558 | 07/06/20 | 20-67-NG | Twin Resource Management, LLC | Order 4558 granting blanket authority to import/export natural gas from/to Canada/Mexico.
4559 | 07/07/20 | 20-66-NG | Concord Energy LLC | Order 4559 granting blanket authority to import/export natural gas from/to Canada/Mexico.
4560 | 07/07/20 | 20-69-NG | BP Energy Company | Order 4560 granting blanket authority to import LNG from various international sources by vessel.
4561; 4353-A; 4203 | 07/13/20 | 20-70-NG; 19-19-NG; 18-68-NG | Liberty Utilities (St. Lawrence) Corp | Order 4561 granting blanket authority to import/export natural gas from/to Canada, and vacating prior authority (Orders 4353 and 4203).
4562 | 07/14/20 | 20-23-LNG | Port Arthur Phase II, LLC | Order 4562 granting long-term authority to export LNG to Non-Free Trade Agreement Nations.
4563 | 07/31/20 | 20-72-NG | Consolidated Edison Energy, Inc | Order 4538 granting blanket authority to import/export natural gas from/to Canada.
4564 | 07/31/20 | 20-68-NG | Infinite Energy, Inc | Order 4539 granting blanket authority to import/export natural gas from/to Canada/Mexico.
4565 | 07/31/20 | 20-74-NG | ENGIE Energy Marketing NA, Inc | Order 4540 granting blanket authority to import/export natural gas from/to Canada/Mexico.
4566 | 07/31/20 | 20-77-NG | Gunvor USA LLC | Order 4566 granting blanket authority to import/export natural gas from/to Canada/Mexico.
4567 | 07/31/20 | 20-75-LNG | Clean Energy | Order 4567 granting blanket authority to import/export LNG from/to Canada/Mexico by truck, to export LNG to Canada/Mexico by barge/vessel, and to import LNG from various international sources by barge/vessel.

[FR Doc. 2020-18599 Filed 8-24-20; 8:45 am]

BILLING CODE 6450-01-P